DEPARTMENT OF TRANSPORTATION

Federal Aviation Administration

Drone Advisory Committee (DAC); Renewal

AGENCY: Federal Aviation Administration (FAA), DOT.

ACTION: Notice of renewal.

SUMMARY: The FAA announces the charter renewal of the Drone Advisory Committee (DAC), a Federal Advisory Committee that works with industry, community stakeholders, and the public to improve the development of the FAA's regulations. This charter renewal will take effect on June 12, 2020, and will expire after 2 years if not renewed.

FOR FURTHER INFORMATION CONTACT: Gary Kolb, UAS Integration Office, Federal Aviation Administration, 490 L'Enfant Plaza SW, Suite 7225, Washington, DC, telephone (202) 267-4441; email Gary.Kolb@faa.gov.

SUPPLEMENTARY INFORMATION: Pursuant to section 14(a)(2)(A) of the Federal Advisory Committee Act (Pub. L. 92-463), the FAA is giving notice of the charter renewal for the DAC. The DAC is a broad-based, long-term Federal advisory committee that provides the FAA with advice on key UAS integration issues by helping to identify challenges and prioritize improvements. The committee helps to create broad support for an overall integration strategy and vision. Membership is comprised of chief executive officer/chief operating officer-level executives from a cross-section of stakeholders representing the wide variety of UAS interests, including industry, research and academia, retail, and technology. See the DAC website for more information details on pending tasks at https://www.faa.gov/uas/programs_partnerships/drone_advisory_committee/.

Issued in Washington, DC.
Erik W. Amend,
Manager, Executive Office, AUS-10, UAS Integration Office, Federal Aviation Administration.

[FR Doc. 2020-12709 Filed 6-11-20; 8:45 am]

BILLING CODE 4910-13-P